NUCLEAR REGULATORY COMMISSION

[Docket No. 52-036; NRC-2008-0616]

Entergy Operations, Inc.; River Bend Station Unit 3 Combined License Application; Notice of Cancellation of Environmental Scoping Process and Public Scoping Meeting

Entergy Operations, Inc. (EOI) on behalf of itself; Entergy Louisiana, LLC (ELL); Entergy Gulf States Louisiana, L.L.C. (EGSL); and Entergy Mississippi, Inc. (EMI) has submitted an application for a combined license (COL) to build Unit 3 at its River Bend Station (RBS) site, located on approximately 3,330 acres in West Feliciana Parish on the Mississippi River, approximately three miles southeast of St. Francisville, Louisiana and 24 miles north-northwest of Baton Rouge, Louisiana. EOI submitted the application for the COL to the U.S. Nuclear Regulatory Commission (NRC) on September 25, 2008, pursuant to Title 10 of the Code of Federal Regulations (10 CFR) Part 52.

A notice of intent to prepare an environmental impact statement and conduct scoping process was published in the Federal Register on January 5, 2009 (74 FR 324). On January 9, 2009, EOI submitted a letter to NRC requesting that the staff suspend its review of the RBS Unit 3 COL application. The purpose of this notice is to inform the public that the NRC has canceled the scoping process and the associated scoping meeting for this application.

Questions about this cancellation should be directed to Mr. Andrew Kugler at 301-415-2828 or via e-mail at Andrew.Kugler@nrc.gov.

Dated at Rockville, Maryland, this 22nd day of January 2009.
For the Nuclear Regulatory Commission.
Scott C. Flanders,
Director, Division of Site and Environmental Reviews, Office of New Reactors.

[FR Doc. E9-1779 Filed 1-27-09; 8:45 am]

BILLING CODE 7590-01-P